NATIONAL AERONAUTICS AND SPACE ADMINISTRATION

[Notice (05-099)]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: June 8, 2005.

FOR FURTHER INFORMATION CONTACT: Kent N. Stone, Patent Counsel, Glenn Research Center at Lewis Field, Code 500-118, Cleveland, OH 44135; telephone (216) 433-8855; fax (216) 433-6790.

NASA Case No. LEW-17678-1: Magnetic Circuit For Hall Effect Plasma Accelerator;

NASA Case No. LEW-17498-1: Selective Wavelength Filtering;

NASA Case No. LEW-17664-1: Elimination Of Lifetime Limiting Mechanism Of Hall Thrusters;

NASA Case No. LEW-17484-2: Operation Of A Cartesian Robotic System In A Compact Microscope Imaging System With Intelligent Controls;

NASA Case No. LEW-17484-3: Identification Of Cells With A Compact Microscope Imaging System With Intelligent Controls;

NASA Case No. LEW-17484-4: Tracking Of Cells With A Compact Microscope Imaging System With Intelligent Controls;

NASA Case No. LEW-17563-1: Improved Emitter Conductivity Layer For Solar Cells;

NASA Case No. LEW-17425-1: Flexible/Rigid Tubular Structronic Surgical Retractor And/Or Endoscopie Instrument.

Dated: May 31, 2005.
Keith T. Sefton,
Deputy General Counsel, Administration and Management.

[FR Doc. 05-11302 Filed 6-7-05; 8:45 am]

BILLING CODE 7510-13-P